DEPARTMENT OF ENERGY

Federal Energy Regulatory Commission

[Docket No. EC03-77-000, et al.]

El Paso Merchant Energy, L.P., et al.; Electric Rate and Corporate Filings

April 18, 2003.

The following filings have been made with the Commission. The filings are listed in ascending order within each docket classification.

1. El Paso Merchant Energy, L.P., Mohawk River Funding IV, L.L.C.

[Docket No. EC03-77-000]

Constellation Power Source, Inc.Take notice that on April 15, 2003, El Paso Merchant Energy, L.P. (EPME), Mohawk River Funding IV, L.L.C. (MRF IV) and Constellation Power Source, Inc. (CPSI) (jointly, Applicants) filed with the Federal Energy Regulatory Commission (Commission) an application pursuant to section 203 of the Federal Power Act for authorization for EPME to assign an electric purchase agreement to CPSI. Applicants also requested expedited consideration of the Application and privileged treatment for certain exhibits pursuant to 18 CFR 33.9 and 388.112.

Comment Date: May 6, 2003.

2. California Independent System Operator Corporation

[Docket Nos. EL00-95-082, and EL00-98-070]

Take notice that on April 14, 2003, the California Independent System Operator Corporation (ISO) submitted a filing in compliance with the Commission's March 13, 2003 “Order on Compliance Filing,” 102 FERC ¶ 61,285 (2003), issued in the above-referenced dockets.

The ISO states that it has served copies of this filing upon all entities that are on the official service list for the docket.

Comment Date: May 14, 2003.

3. California Independent System Operator Corporation

[Docket Nos. ER03-218-002, and ER03-219-002]

Take notice that on April 15, 2003, the California Independent System Operator Corporation (ISO) made a filing (Compliance Filing) in compliance with the Commission's January 24, 2003, Order in Docket Nos. ER03-218-000 and ER03-219-000 (January 24 Order). The ISO states that the purpose of the Compliance Filing is to submit certain changes to the ISO Tariff and the Transmission Control Agreement to bring them into conformance with the directives of January 24 Order.

The ISO states that this filing has been served on the Public Utilities Commission of the State of California, the California Energy Commission, the California Electricity Oversight Board, and all parties with effective Scheduling Coordinator Agreements under the ISO Tariff. The ISO is requesting that the Commission delay acting on the Compliance Filing until it has acted on certain Requests for Rehearing of the January 24 Order.

Comment Date: May 6, 2003.

4. California Independent System Operator Corporation

[Docket No. ER03-407-003]

Take notice that on April 16, 2003, the California Independent System Operator Corporation (ISO) submitted an errata filing concerning the ISO's April 11, 2003, filing to comply with the Commission's March 12, 2003, “Order Conditionally Accepting Tariff Amendment For Filing, as Modified, Granting Waiver of Notice, and Directing Compliance Filing,” 102 FERC ¶ 61,268 issued in Docket No. ER03-407-000. The ISO states that copies of this filing have been served upon all entities that are on the official service list for Docket No. ER03-407-000.

Comment Date: May 7, 2003.

5. ISG Sparrows Point Inc

[Docket No. ER03-693-001]

Take notice that on April 15, 2003, ISG Sparrows Point Inc., (ISG Sparrows Point) filed an amendment to its April 1, 2003, Petition for Acceptance of Initial Rate Schedule, Waivers and Blanket Authority, and Request for Shortened Notice and Expedited Action. ISG Sparrows Point proposes to revise its originally proposed FERC Electric Tariff, Original Volume No. 1, to reflect the Commission's action in Aquila Inc., 101 FERC ¶ 61,331. ISG Sparrows Point requests an effective date for the amended rate schedule of May 1, 2003.

Comment Date: April 28, 2003.

6. New York Independent System Operator, Inc.

[Docket No. ER03-749-000]

Take notice that on April 16, 2003, the New York Independent System Operator, Inc. (NYISO), filed corrections to its May 31, 2002, filing in which the NYISO indicates that it proposed to modify the manner in which it recovers charges assessed to customers under its Open Access Transmission Tariff (OATT) and Market Administration and Control Area Services Tariff (Services Tariff).

The NYISO states that it has served a copy of this filing upon all parties that have executed Service Agreements under the NYISO's OATT or Services Tariff, the New York State Public Service Commission, and the electric utility regulatory agencies in New Jersey and Pennsylvania.

Comment Date: May 7, 2003.

7. D.E. Shaw Plasma Power, L.L.C.

[Docket No. ER03-750-000]

Take notice that on April 16, 2003, D. E. Shaw Plasma Power, L.L.C., submitted a notice of withdrawal of the proposed rate schedule filed on December 18, 2002.

Comment Date: May 7, 2003.

8. MidAmerican Energy Company

[Docket No. ER03-751-000]

Take notice that on April 16, 2003, MidAmerican Energy Company (MidAmerican) tendered for filing an amended Service Agreement between MidAmerican and Resale Power Group of Iowa (RPGI). MidAmerican seeks an effective date of April 17, 2003.

MidAmerican states that copies of this filing have been served on RPGI, the Iowa Utilities Board, the Illinois Commerce Commission, and the South Dakota Public Utilities Commission.

Comment Date: May 7, 2003.

9. Solaro Energy Power Marketing Corporation

[Docket No. ER03-752-000]

Take notice that on April 16, 2003, Solaro Energy Power Marketing Corporation (Solaro Energy) petitioned the Commission for acceptance of Solaro Energy Rate Schedule FERC No. 1; the granting of certain blanket approvals, including the authority to sell electricity at market-based rates; and the waiver of certain Commission regulations.

Comment Date: May 7, 2003.

10. The Detroit Edison Company

[Docket No. ES03-35-000]

Take notice that on April 16, 2003, The Detroit Edison Company submitted an application pursuant to section 204 of the Federal Power Act seeking authorization to issue short-term debt securities in an amount not to exceed $1 billion.

Comment Date: May 8, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-10304 Filed 4-25-03; 8:45 am]

BILLING CODE 6717-01-P